DEPARTMENT OF DEFENSE

Department of the Army; Corps of Engineers

Notice of Availability of the Draft Environmental Impact Statement (DEIS) for the Installation of a Terminal Groin Structure at the Western End of South Beach, Bald Head Island, Adjacent to the Federal Wilmington Harbor Channel of the Cape Fear River (Brunswick County, North Carolina)

AGENCY: Department of the Army, U.S. Army Corps of Engineers, DOD.

ACTION: Notice of availability.

SUMMARY: The U.S. Army Corps of Engineers (USACE), Wilmington District, Wilmington Regulatory Field Office, has received a request for Department of the Army authorization, pursuant to Section 404 of the Clean Water Act and Section 10 of the Rivers and Harbor Act, from the Village of Bald Head Island (VBHI) to develop and implement a shoreline protection plan that includes the installation of a terminal groin structure on the east side of the Wilmington Harbor Bald Head Shoal Entrance Channel (a federally-maintained navigation channel of the Cape Fear River) at the “Point” of Bald Head Island.

DATES: A public hearing for the Draft Environmental Impact Statement (DEIS) will be held at the International Longshoreman's Association Hall, located at 211 West 10th Street in Southport, Brunswick County, North Carolina, on February 12, 2014, at 6:00 p.m. Written comments on the DEIS will be received until February 24, 2014.

ADDRESSES: Copies of comments and questions regarding scoping of the DEIS may be submitted to: U.S. Army Corps of Engineers (Corps), Wilmington District, Regulatory Division. Attn: File Number SAW-2012-00040, 69 Darlington Avenue, Wilmington, North Carolina 28403.

FOR FURTHER INFORMATION CONTACT: Questions about the proposed action and DEIS can be directed to Mr. Ronnie Smith, Wilmington Regulatory Field Office, telephone number: (910) 251-4829. A copy of the DEIS can be found at the following link: http://www.saw.usace.army.mil/Missions/RegulatoryPermitProgram/PublicNotices.aspx under the VBHI Terminal Groin Project.

SUPPLEMENTARY INFORMATION:

1. Project Description. The west end of South Beach, Bald Head Island, Brunswick County, North Carolina, has experienced both chronic and short-term shoreline erosion. This erosion has resulted in direct impacts to nearby beaches and dunes and could potentially impact public infrastructure and homes. This area has been subject to past sand placement activities sponsored by both the VBHI and the Corps. The Corps has placed several million cubic yards of suitable material on this shoreline since 1991 as part of a Federal navigation project. To address its erosion issue, the VBHI desires to implement a long-term beach and dune stabilization strategy to include installation of a single terminal groin at the western end of South Beach. The proposed terminal groin would be expected to perform the following functions: (1) Reduce inlet-directed sand losses from beach fill projects; and (2) stabilize shoreline alignment along the westernmost segment of South Beach in such a manner that alongshore transport rates are reduced. The terminal groin would serve as a “template” for fill material placed eastward (of the proposed terminal groin). The proposed groin has been designed as a “leaky” structure (i.e. semi-permeable) so as to provide for some level of sand transport to West Beach (located northward and downdrift of the proposed groin).

2. Issues. There are several potential environmental and public interest issues that are addressed in the DEIS. Additional issues may be identified during the public review process. Issues initially identified as potentially significant include:

a. Potential impacts to marine biological resources (benthic organisms, passageway for fish and other marine life) and Essential Fish Habitat.

b. Potential impacts to threatened and endangered marine mammals, reptiles, birds, fish, and plants.

c. Potential for shoreline changes on West Beach of Bald Head Island and adjacent areas.

d. Potential impacts to navigation, commercial and recreational.

e. Potential impacts to the long-term management of the oceanfront shorelines.

f. Potential effects on regional sand sources and sand management practices.

g. Potential effects of shoreline protection.

h. Potential impacts on public health and safety.

i. Potential impacts to recreational and commercial fishing.

j. Potential impacts to cultural resources.

k. Cumulative impacts of future dredging and nourishment activities.

3. Alternatives. Several alternatives are being considered for the proposed project. These alternatives, including the No Action alternative, were further formulated and developed during the scoping process and are considered in the DEIS. A summary of alternatives under consideration are provided below:

• Alternative #1: No-Action (includes component of Status-Quo)

• Alternative #2: Retreat

• Alternative #3: Beach Nourishment/Disposal With Existing Sand Tube Groinfield To Remain in Place

• Alternative #4: Beach Nourishment/Beach Disposal and Sand Tube Groinfield Removal

• Alternative #5: Terminal Groin With Beach Nourishment/Beach Disposal (Sand Tube Groinfield Remaining)

• Alternative #6: Terminal Groin With Beach Nourishment/Disposal (Removal of Sand Tube Groinfield)

4. Scoping Process. Project Review Team meetings were held to receive comments and assess concerns regarding the appropriate scope and preparation of the DEIS. Federal, state, and local agencies and other interested organizations and persons participated in these Project Review Team meetings.

The Corps is also consulting with the U.S. Fish and Wildlife Service under the Endangered Species Act and the Fish and Wildlife Coordination Act, and with the National Marine Fisheries Service under the Magnuson-Stevens Act and Endangered Species Act. Additionally, the DEIS has assessed potential water quality impacts pursuant to Section 401 of the Clean Water Act, and is being coordinated with North Carolina Division of Coastal Management (NCDCM) to determine the project's consistency with the Coastal Zone Management Act and permittability under State Coastal Management rules. The USACE has worked with the NCDCM through the DEIS process to ensure the process complies with all State Environmental Policy Act (SEPA) requirements. It is the Corps' and NCDCM's intentions to consolidate both National Environmental Policy Act (NEPA) and SEPA processes to eliminate duplications.

5. Availability of the DEIS. The DEIS has been published and circulated, and a public hearing will be held February 12, 2014 at the International Longshoreman's Association Center, located at 211 West 10th Street in Southport, Brunswick County, North Carolina at 6 p.m.

Dated: December 30, 2013 .
Scott McLendon,
Chief, Regulatory Division.

[FR Doc. 2014-00262 Filed 1-9-14; 8:45 am]

BILLING CODE 3720-58-P